UNITED STATES INTERNATIONAL TRADE COMMISSION

[USITC SE-15-031]

Government in the Sunshine Act Meeting Notice

AGENCY HOLDING THE MEETING: United States International Trade Commission.

TIME AND DATE: September 24, 2015 at 9 a.m.

PLACE: Room 101, 500 E Street SW., Washington, DC 20436, Telephone: (202) 205-2000.

STATUS: Open to the public.

MATTERS TO BE CONSIDERED:

1. Agendas for future meetings: None.

2. Minutes.

3. Ratification List.

4. Vote in Inv. Nos. 701-TA-545-547 and 731-TA-1291-1297 (Preliminary) (Certain Hot-Rolled Steel Flat Products from Australia, Brazil, Japan, Korea, the Netherlands, Turkey, and the United Kingdom). The Commission is currently scheduled to complete and file its determinations on September 25, 2015; views of the Commission are currently scheduled to be completed and filed on October 2, 2015.

5. Outstanding action jackets: None.

In accordance with Commission policy, subject matter listed above, not disposed of at the scheduled meeting, may be carried over to the agenda of the following meeting.

By order of the Commission.
Issued: September 15, 2015.
William R. Bishop,
Supervisory Hearings and Information Officer.

[FR Doc. 2015-23586 Filed 9-16-15; 4:15 pm]

BILLING CODE 7020-02-P